EXPORT-IMPORT BANK OF THE UNITED STATES

Economic Impact Policy

This notice is to inform the public that the Export-Import Bank of the United States has received an application to finance the export of approximately $17 million of U.S. goods to a steel service center in Ukraine. The U.S. exports will enable the center to process approximately 150,000 metric tons per year of galvanized and painted steel. Available information indicates that virtually all of this new production will be consumed in the Ukraine and Russian construction industries. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. 04-8402 Filed 4-13-04; 8:45 am]

BILLING CODE 6690-01-M